DEPARTMENT OF COMMERCE

International Trade Administration

[C-533-907]

Sodium Nitrite From India: Final Results of Countervailing Duty Administrative Review; 2022-2023

AGENCY: Enforcement and Compliance, International Trade Administration, Department of Commerce.

SUMMARY: The U.S. Department of Commerce (Commerce) determines that certain producers and exporters of sodium nitrite from India received countervailable subsidies during the period of review (POR) June 21, 2022, through December 31, 2023.

DATES: Applicable February 24, 2026.

FOR FURTHER INFORMATION CONTACT: Joshua Jacobson, AD/CVD Operations, Enforcement and Compliance, International Trade Administration, U.S. Department of Commerce, 1401 Constitution Avenue NW, Washington, DC 20230; telephone: (202) 482-0266.

Background

On June 11, 2025, Commerce published the Preliminary Results of the 2022-2023 administrative review of the countervailing duty order on sodium nitrite from India and invited comments from interested parties.¹ Due to the lapse in appropriations and Federal Government shutdown, on November 14, 2025, Commerce tolled all deadlines in administrative proceedings by 47 days.² On November 20, 2025, Commerce extended the deadline for issuing the final results of this review by 60 days, in accordance with section 751(a)(3)(A) of the Tariff Act of 1930, as amended (the Act).³ Additionally, due to a backlog of documents that were electronically filed via Enforcement and Compliance's Antidumping and Countervailing Duty Centralized Electronic Service System (ACCESS) during the Federal Government shutdown, on November 24, 2025, Commerce tolled all deadlines in administrative proceedings by an additional 21 days.⁴ Accordingly, the deadline for these final results is now February 17, 2026.

¹ See Sodium Nitrite from India: Preliminary Results and Intent To Rescind, in Part, of Countervailing Duty Administrative Review; 2022-23, 90 FR 24577 (June 11, 2025) (Preliminary Results), and accompanying Preliminary Decision Memorandum (PDM).

² See Memorandum, “Deadlines Affected by the Shutdown of the Federal Government,” dated November 14, 2025.

³ See Memorandum, “Extension of Deadline for Preliminary Results,” dated August 15, 2025.

⁴ See Memorandum, “Tolling of all Case Deadlines,” dated November 24, 2025.

For a complete description of the events that occurred since the Preliminary Results, see the Issues and Decision Memorandum.⁵ The Issues and Decision Memorandum is a public document and is on file electronically via ACCESS. ACCESS is available to registered users at https://access.trade.gov. In addition, a complete version of the Issues and Decision Memorandum can be accessed directly at https://access.trade.gov/public/FRNoticesListLayout.aspx. Commerce conducted this review in accordance with section 751(a)(1)(A) of the Tariff Act of 1930, as amended (the Act).

⁵ See Memorandum, “Issues and Decision Memorandum for the Final Results of the Administrative Review of the Countervailing Duty Order on Sodium Nitrite from India; 2022-23,” dated concurrently with, and hereby adopted by, this notice (Issues and Decision Memorandum).

Scope of the Order

The products covered by the Order are sodium nitrite from India. For a full description of the scope of the Order, see the Issues and Decision Memorandum.

Analysis of Comments Received

All issues raised by the interested parties in their case and rebuttal briefs are addressed in the Issues and Decision Memorandum. The topics discussed and the issues raised by parties to which we responded in the Issues and Decision Memorandum are listed in the appendix to this notice.

Changes Since the Preliminary Results

Based on comments received from interested parties, we revised the calculation of the net countervailable subsidy rates for Deepak Nitrite Limited (DNL).⁶

⁶ For a discussion of the issues, see the Issues and Decision Memorandum.

Methodology

Commerce conducted this administrative review in accordance with section 751(a)(1)(A) of Act. For each of the subsidy programs found to be countervailable, we determine that there is a subsidy, i.e., a government-provided financial contribution that gives rise to a benefit to the recipient, and that the subsidy is specific.⁷ The Issues and Decision Memorandum contains a full description of the methodology underlying Commerce's conclusions, including our reliance, in part, on facts otherwise available, pursuant to section 776 of the Act.

⁷ See sections 771(5)(B) and (D) of the Act regarding financial contribution; section 771(5)(E) of the Act regarding benefit; and section 771(5A) of the Act regarding specificity.

Non-Selected Company Rate

We made no changes to the methodology from the Preliminary Results for determining a rate for Kronox Lab Sciences Pvt Ltd. (Kronox), the only company not selected for individual examination. However, due to changes in the benefit calculations for DNL, the 2022 and 2023 non-selected rate changed for Kronox.

Final Results of the Administrative Review

We find the following net countervailable subsidy rates for the period June 21, 2022, through December 31, 2023:

⁸ Deepak Nitrite Limited includes Deepak Nitrite Limited Nandesari Division.

Company | Subsidy rate for 2022 (percent ad valorem) | Subsidy rate for 2023 (percent ad valorem)
Deepak Nitrite Limited ⁸ | 12.01 | 6.07
Review-Specific Rate Applicable For Non-Examined Company
Kronox Lab Sciences Pvt Ltd | 12.01 | 6.07

Disclosure

We intend to disclose the calculations performed in connection with these final results of review to interested parties in this review within five days after public announcement of the final results or, if there is no public announcement, within five days of the date of publication of this notice in the Federal Register, in accordance with 19 CFR 351.224(b).

Assessment

In accordance with section 751(a)(2)(C) of the Act and 19 CFR 351.212(b)(2), Commerce shall determine, and U.S. Customs and Border Protection (CBP) shall assess, countervailing duties on all appropriate entries covered by this review. Commerce will liquidate shipments of subject merchandise entered, or withdrawn from warehouse, for consumption for the period on or after June 21, 2022, through December 31, 2022, and for the period on or after January 1, 2023, through December 31, 2023, for the above-listed companies at the ad valorem assessment rates listed above. We intend to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, we also intend to instruct CBP to collect cash deposits of estimated countervailing duties in the amount for the year 2023 shown for the companies listed above for shipments of subject merchandise entered, or withdrawn from warehouse, for consumption on or after the date of publication of the final results of this administrative review. For all non-reviewed firms, we will instruct CBP to continue to collect cash deposits of estimated countervailing duties at the all-others rate or the most recent company-specific rate applicable to the company, as appropriate. These cash deposit requirements, when imposed, shall remain in effect until further notice.

Administrative Protective Order

This notice also serves as a final reminder to parties subject to an administrative protective order (APO) of their responsibility concerning the disposition of proprietary information disclosed under APO in accordance with 19 CFR 351.305(a)(3). Timely written notification of the return or destruction of APO materials or conversion to judicial protective order, is hereby requested. Failure to comply with the regulations and terms of an APO is a violation subject to sanction.

Notification to Interested Parties

The final results are issued and published in accordance with sections 751(a)(1) and 777(i)(1) of the Act, and 19 CFR 351.221(b)(5).

Dated: February 17, 2026.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Use of Facts Otherwise Available and Application of Adverse Inferences

VI. Subsidies Valuation Information

VII. Analysis of Programs

VIII. Discussion of the Issues

Comment 1: Whether Cash Deposit Rates Resulting from the First Review Should Be Based on the Net Benefits Received Over the Full POR

Comment 2: Whether Commerce Should Rely on Adverse Facts Available to Determine DNL's CVD Rates for the Remission of Duties and Taxes on Export Products (RoDTEP) and Duty Drawback (DDB) Programs

Comment 3: Whether Commerce Properly Calculated the Benefit for the DDB Program

Comment 4: Whether Commerce Should Calculate Benefits For GIDC and MIDC Land DNL Purchased From Third Parties

Comment 5: Whether Commerce Should Use Land Benchmarks Provided by the Petitioner to Measure the Benefit DNL Received for its Purchases of Land at Less Than Adequate Remuneration (LTAR)

Comment 6: Whether Commerce Should Correct a Ministerial in Its Benefit Calculations For the Provision of Coal at LTAR

Comment 7: Whether Deductions Under Section 80JJAA of the Income Tax Act Are Countervailable

Comment 8: Whether Commerce's Position on the Provision of Coal and Ammonia at LTAR is Inconsistent with Past Findings

IX. Recommendation

[FR Doc. 2026-03611 Filed 2-23-26; 8:45 am]

BILLING CODE 3510-DS-P